DEPARTMENT OF COMMERCE

International Trade Administration

[A-570-851]

Certain Preserved Mushrooms From the People's Republic of China: Preliminary Results and Rescission in Part of Antidumping Duty Administrative Review; 2012-2013

AGENCY: Enforcement and Compliance, formerly Import Administration, International Trade Administration, Department of Commerce.

DATES: Effective Date: November 21, 2013.

SUMMARY: The Department of Commerce (the Department) is conducting an administrative review of the antidumping duty order on certain preserved mushrooms from the People's Republic of China (PRC) covering the period of review (POR) February 1, 2012, through January 31, 2013. The Department has preliminarily applied facts otherwise available with an adverse inference (AFA) to the PRC-wide entity because an element of the entity, Blue Field (Sichuan) Food Industrial Co., Ltd. (Blue Field), failed to act to the best of its ability in complying with the Department's request for information in this review and, consequently, significantly impeded the proceeding. In addition, the Department is rescinding this administrative review in part with respect to certain exporters for which all review requests have been withdrawn.

FOR FURTHER INFORMATION CONTACT: Deborah Scott, Michael J. Heaney, or Robert James, AD/CVD Operations, Office VI, Enforcement and Compliance, International Trade Administration, U.S. Department of Commerce, 14th Street and Constitution Avenue NW., Washington, DC 20230; telephone: (202) 482-2657, (202) 482-4475, or (202) 482-0649, respectively.

SUPPLEMENTARY INFORMATION:

Scope of the Order

The products covered by this antidumping order are certain preserved mushrooms, whether imported whole, sliced, diced, or as stems and pieces. The merchandise subject to this order is classifiable under subheadings: 2003.10.0127, 2003.10.0131, 2003.10.0137, 2003.10.0143, 2003.10.0147, 2003.10.0153, and 0711.51.0000 of the Harmonized Tariff Schedule of the United States (HTSUS). Although the HTSUS subheadings are provided for convenience and customs purposes, the written description of the scope of this order is dispositive.¹

¹ For a complete description of the scope of the order, see “Certain Preserved Mushrooms from the People's Republic of China: Decision Memorandum for the Preliminary Results of the 2012-2013 Administrative Review,” dated concurrently with this notice and incorporated herein by reference (Preliminary Decision Memorandum).

Tolling of Deadlines for Preliminary Results

As explained in the memorandum from the Assistant Secretary for Enforcement and Compliance, the Department has exercised its discretion to toll deadlines for the duration of the closure of the Federal Government from October 1, through October 16, 2013.² Therefore, all deadlines in this segment of the proceeding have been extended by 16 days. If the new deadline falls on a non-business day, in accordance with the Department's practice, the deadline will become the next business day. The revised deadline for the preliminary results of this review is now November 18, 2013.

² See Memorandum for the Record from Paul Piquado, Assistant Secretary for Enforcement and Compliance, “Deadlines Affected by the Shutdown of the Federal Government” (October 18, 2013).

Methodology

The Department has conducted this review in accordance with section 751(a)(1)(B) of the Tariff Act of 1930, as amended (the Act). AFA has been applied to the PRC-wide entity in accordance with section 776 of the Act. For a full description of the methodology underlying our conclusions, see the Preliminary Decision Memorandum. The Preliminary Decision Memorandum is a public document and is on file electronically via Enforcement and Compliance's Antidumping and Countervailing Duty Centralized Electronic Service System (IA ACCESS). IA ACCESS is available to registered users at http://iaaccess.trade.gov, and is available to all parties in the Central Records Unit, room 7046 of the main Department of Commerce building. In addition, a complete version of the Preliminary Decision Memorandum can be accessed directly at http://enforcement.trade.gov/frn/. The signed Preliminary Decision Memorandum and the electronic versions of the Preliminary Decision Memorandum are identical in content.

Partial Rescission of Review

For those exporters named in the Initiation Notice ³ that are not part of the PRC-wide entity for which all review requests have been withdrawn, we are rescinding this administrative review, in accordance with 19 CFR 351.213(d)(1). The exporters for which we are rescinding this review include: (1) Fujian Golden Banyan Foodstuffs Industrial Co., Ltd. (Golden Banyan); ⁴ (2) Guangxi Hengyong Industrial & Commercial Dev. Ltd.; (3) Guangxi Jisheng Foods, Inc.; (4) Linyi City Kangfa Foodstuff Drinkable Co., Ltd.; (5) Zhangzhou Gangchang Canned Foods Co., Ltd. (aka Zhangzhou Gangchang Canned Foods Co., Ltd., Fujian); ⁵ and (6) Zhangzhou Tongfa Foods Industry, Co., Ltd. These exporters have separate rates from a prior segment of this proceeding. Therefore, antidumping duties shall be assessed at rates equal to the cash deposit of estimated antidumping duties required at the time of entry, or withdrawal from warehouse, for consumption, in accordance with 19 CFR 351.212(c)(2).

³ See Initiation of Antidumping and Countervailing Duty Administrative Reviews and Request for Revocation in Part, 78 FR 19197 (March 29, 2013) (Initiation Notice).

⁴ The Department considers Golden Banyan to be distinct from another company with a similar name for which a review was originally requested, Zhangzhou Golden Banyan Foodstuffs Industrial Co., Ltd. (Zhangzhou Golden Banyan). In the administrative review covering the period February 1, 2010 through January 31, 2011, the Department calculated a separate rate for Golden Banyan, while it considered Zhangzhou Golden Banyan to remain a part of the PRC-wide entity. See Certain Preserved Mushrooms From the People's Republic of China: Final Results of Antidumping Duty Administrative Review, 77 FR 55808 (September 11, 2012). The record of this review does not contain any evidence that suggests these two companies should be considered a single entity.

⁵ Zhangzhou Gangchang Canned Foods Co., Ltd., Fujian was found to be the name of the company initially referenced by that party and the Department as Zhangzhou Gangchang Canned Foods Co., Ltd. See Certain Preserved Mushrooms from the People's Republic of China: Preliminary Results of Antidumping Duty New Shipper Reviews, 74 FR 14772 (April 1, 2009), unchanged in Certain Preserved Mushrooms from the People's Republic of China: Final Results of Antidumping Duty New Shipper Reviews 74 FR 28882 (June 18, 2009). The record of this review does not contain any evidence that contradicts this finding.

Intent Not To Rescind Review in Part

We have received withdrawal of review requests for the following exporters that remain a part of the PRC-wide entity, which is currently under review: (1) Ayecue (Liaocheng) Foodstuff Co., Ltd.; (2) China National Cereals, Oils & Foodstuffs Import & Export Corp.; (3) China Processed Food Import & Export Co.; (4) Dujiangyan Xingda Foodstuff Co., Ltd.; (5) Fujian Pinghe Baofeng Canned Foods; (6) Fujian Yuxing Fruits and Vegetables Foodstuffs Development Co., Ltd.; (7) Fujian Zishan Group Co., Ltd.; (8) Guangxi Eastwing Trading Co., Ltd.; (9) Inter-Foods (Dongshan) Co., Ltd.; (10) Longhai Guangfa Food Co., Ltd.; (11) Primera Harvest (Xiangfan) Co., Ltd.; (12) Shandong Fengyu Edible Fungus Corporation Ltd.; (13) Shandong Jiufa Edible Fungus Corporation, Ltd.; (14) Shandong Yinfeng Rare Fungus Corporation, Ltd.; (15) Sun Wave Trading Co., Ltd.; (16) Xiamen Greenland Import & Export Co., Ltd.; (17) Xiamen Gulong Import & Export Co., Ltd.; (18) Xiamen Jiahua Import & Export Trading Co., Ltd.; (19) Xiamen Longhuai Import & Export Co., Ltd.; (20) Zhangzhou Golden Banyan; (21) Zhangzhou Long Mountain Foods Co., Ltd.; (22) Zhejiang Iceman Food Co., Ltd.; ⁶ and (23) Zhejiang Iceman Group Co., Ltd.

⁶ The Department has found that Zhejiang Iceman Food Co., Ltd. should be equated with Zhejiang Iceman Group Co., Ltd. See Certain Preserved Mushrooms From the People's Republic of China: Amended Final Results of Antidumping Duty Administrative Review, 76 FR 70112 (November 10, 2011). The record of this review does not contain any evidence that contradicts this finding.

For those exporters named in the Initiation Notice for which all review requests have been withdrawn, but which have not previously received separate rate status, the Department's practice is to refrain from rescinding the review with respect to these exporters at this time.⁷ As stated above, requests for review of several exporters belonging to the PRC-wide entity were timely withdrawn. While the requests for review were timely withdrawn, the exporters remain part of the PRC-wide entity. The PRC-wide entity is under review for these preliminary results. Therefore, at this time, we are not rescinding this review with respect to those exporters belonging to the PRC-wide entity for which a request for review has been withdrawn.

⁷ See, e.g., Small Diameter Graphite Electrodes From the People's Republic of China: Final Results of Antidumping Duty Administrative Review; 2011-2012, 78 FR 55680, 55681 (September 11, 2013).

Preliminary Determination of No Shipments

Xiamen International Trade & Industrial Co., Ltd. (XITIC) and Zhangzhou Hongda Import & Export Trading Co., Ltd. (Zhangzhou Hongda) submitted timely certifications of no shipments, entries, or sales of subject merchandise during the POR. The Department issued a “No Shipment Inquiry” to CBP to confirm that there were no entries of subject merchandise exported by XITIC or Zhangzhou Hongda during the POR. Based on the certifications and our analysis of CBP information, we preliminary determine that XITIC and Zhangzhou Hongda did not have any reviewable transactions during the POR. However, consistent with our practice, the Department finds that it is not appropriate to rescind the review with respect to XITIC and Zhangzhou Hongda, but rather to complete the review of XITIC and Zhangzhou Hongda and issue appropriate instructions to CBP based on the final results of the review.⁸

⁸ See Non-Market Economy Antidumping Proceedings: Assessment of Antidumping Duties, 76 FR 65694 (October 24, 2011).

Preliminary Results of the Review

The Department has preliminarily determined that the following weighted-average dumping margin exists for the period February 1, 2012 through January 31, 2013:

Exporter | Weighted- average dumping margin (percent)
PRC-wide entity ⁹ | 308.33

Public Comment and Opportunity To Request a Hearing

Interested parties may submit case briefs within 30 days after the date of publication of this notice of preliminary results of the review.¹⁰ Rebuttal briefs, which must be limited to issues raised in the case briefs, must be filed within five days after the time limit for filing case briefs.¹¹ Parties who submit case briefs or rebuttal briefs in this proceeding are requested to submit with each argument: (1) A statement of the issue; (2) a brief summary of the argument; and (3) a table of authorities.¹² Interested parties submitting case and rebuttal briefs should do so pursuant to the Department's electronic filing system, IA ACCESS.¹³

⁹ The PRC-wide entity includes, among other companies, Blue Field (Sichuan) Food Industrial Co., Ltd.

¹⁰ See 19 CFR 351.309(c)(1)(ii).

¹¹ See 19 CFR 351.309(d)(1)-(2).

¹² See 19 CFR 351.309(c)(2), (d)(2).

¹³ See 19 CFR 351.303(b).

Any interested party may request a hearing within 30 days of the publication of this notice.¹⁴ Hearing requests should contain the following information: (1) The party's name, address, and telephone number; (2) the number of participants; and (3) a list of the issues to be discussed. Oral argument presentations will be limited to issues raised in the briefs. If a request for a hearing is made, parties will be notified of the date and time for the hearing to be held at the U.S. Department of Commerce, 1401 Constitution Avenue NW., Washington, DC 20230.¹⁵

¹⁴ See 19 CFR 351.310(c).

¹⁵ See 19 CFR 351.310(d).

The Department intends to issue the final results of this administrative review, which will include the results of our analysis of all issues raised in the briefs, within 120 days after the publication of these preliminary results in the Federal Register, pursuant to section 751(a)(3)(A) of the Act.

Assessment Rates

With regard to the partial rescission of this review, the Department will instruct CBP to assess antidumping duties on all appropriate entries. The Department intends to issue appropriate partial rescission assessment instructions directly to CBP 15 days after publication of these preliminary results of review in the Federal Register.

Upon issuance of the final results of this review, the Department will determine, and CBP shall assess, antidumping duties on all appropriate entries of subject merchandise covered by this review.¹⁶ For the PRC-wide entity, we will instruct CBP to assess antidumping duties at an ad valorem rate equal to the weighted-average dumping margin published in the final results of this review. The Department intends to issue assessment instructions to CBP 15 days after the date of publication of the final results of this review in the Federal Register.

¹⁶ See 19 CFR 351.212(b).

The Department recently announced a refinement to its assessment practice in NME cases. Pursuant to this refinement in practice, for entries that were not reported in U.S. sales databases submitted by companies individually examined during the review, the Department will instruct CBP to liquidate such entries at the PRC-wide rate. In addition, if the Department determines that an exporter under review had no shipments of the subject merchandise, any suspended entries that entered under that exporter's case number (i.e., at that exporter's rate) will be liquidated at the PRC-wide rate.¹⁷

¹⁷ For a full discussion of this practice, see Non-Market Economy Antidumping Proceedings: Assessment of Antidumping Duties, 76 FR 65694 (October 24, 2011).

Cash Deposit Requirements

The following cash deposit requirements, when imposed, will apply to all shipments of subject merchandise entered, or withdrawn from warehouse, for consumption on or after the publication of the final results of this administrative review, as provided by section 751(a)(2)(C) of the Act: (1) For any previously reviewed or investigated PRC and non-PRC exporter not listed above that received a separate rate in a previous segment of this proceeding, the cash deposit rate will continue to be the existing exporter-specific rate published for the most recently completed period; (2) for all PRC exporters that have not been found to be entitled to a separate rate, the cash deposit rate will be that for the PRC-wide entity (i.e., 308.33 percent); and (3) for all non-PRC exporters of subject merchandise which have not received their own rate, the cash deposit rate will be the rate applicable to the PRC exporter that supplied the non-PRC exporter. These cash deposit requirements, when imposed, shall remain in effect until further notice.

Notification to Importers

This notice also serves as a preliminary reminder to importers of their responsibility under 19 CFR 351.402(f)(2) to file a certificate regarding the reimbursement of antidumping duties prior to liquidation of the relevant entries during the POR. Failure to comply with this requirement could result in the Department's presumption that reimbursement of antidumping duties occurred and the subsequent assessment of double antidumping duties.

These preliminary results are issued and published in accordance with sections 751(a)(1) and 777(i)(1) of the Act.

Dated: November 15, 2013.
Ronald K. Lorentzen,
Acting Assistant Secretary for Enforcement and Compliance.

Appendix—List of Topics Discussed in the Preliminary Decision Memorandum

1. Background

2. Respondent Selection

3. Scope of the Order

4. Partial Rescission of Review

5. Intent Not To Rescind Review in Part

6. Preliminary Determination of No Shipments

7. Non-Market Economy Country Status

8. Separate Rates Determination

9. The PRC-Wide Entity

10. Adverse Facts Available

11. Conclusion

[FR Doc. 2013-27972 Filed 11-20-13; 8:45 am]

BILLING CODE 3510-DS-P